GOVERNMENT ACCOUNTABILITY OFFICE

Advisory Council on Government Auditing Standards; Notice of Meeting

The Advisory Council on Government Auditing Standards will meet Monday, February 25, 2008, from 8:30 a.m. to 4:30 p.m., in room 7C13 of the Government Accountability Office building, 441 G Street, NW., Washington, DC.

The Advisory Council on Government Auditing Standards will hold a meeting to discuss issues associated with the independence standard and other issues identified by the Council. The meeting is open to the public. Members of the public will be provided an opportunity to address the Council with a brief (five minute) presentation in the afternoon.

Any interested person who plans to attend the meeting as an observer must contact Jennifer Allison, Council Administrator, 202-512-3423. A form of picture identification must be presented to the GAO Security Desk on the day of the meeting to obtain access to the GAO building. For further information, please contact Ms. Allison. Please check the Government Auditing Standards Web page (http://www.gao.gov/govaud/ybk01.htm) one week prior to the meeting for a final agenda.

[Pub. L. 67-13, 42 Stat. 20 (June 10, 1921)]

Dated: February 6, 2008.
Paula M. Rascona,
Director, Financial Management and Assurance.

[FR Doc. 08-641 Filed 2-13-08; 8:45 am]

BILLING CODE 1610-02-M